DEPARTMENT OF TRANSPORTATION

Federal Aviation Administration

14 CFR Part 39

[Docket No. 98-ANE-37-AD]

RIN 2120-AA64

Airworthiness Directives; Breeze Eastern Aerospace Rescue Hoists

AGENCY: Federal Aviation Administration, DOT.

ACTION: Supplemental notice of proposed rulemaking; reopening of comment period.

SUMMARY: This notice reopens an earlier proposed airworthiness directive (AD), applicable to certain Breeze Eastern Aerospace rescue hoists, that would require a one-time inspection of the mounting brackets for cracks, and, if necessary, replacement with serviceable parts. This proposal is prompted by reports of cracked mounting brackets. The actions specified by the proposed AD are intended to prevent mounting bracket cracks, which could result in mounting bracket failure and separation of the rescue hoist from the aircraft.

DATES: Comments must be received by July 29, 2002.

ADDRESSES: Submit comments in triplicate to the Federal Aviation Administration (FAA), New England Region, Office of the Regional Counsel, Attention: Rules Docket No. 98-ANE-37-AD, 12 New England Executive Park, Burlington, MA 01803-5299. Comments may be inspected at this location, by appointment, between 8 a.m. and 4:30 p.m., Monday through Friday, except Federal holidays. Comments may also be sent via the Internet using the following address: “9-ane-adcomment@faa.gov.” Comments sent via the Internet must contain the docket number in the subject line.

The service information referenced in the proposed rule may be obtained from Breeze Eastern Aerospace, 700 Liberty Avenue, Union, NJ 07083; telephone (908) 686-4000, fax (908) 686-9292. This information may be examined, by appointment, at the FAA, New England Region, Office of the Regional Counsel, 12 New England Executive Park, Burlington, MA.

FOR FURTHER INFORMATION CONTACT: Serge Napoleon, Aerospace Engineer, New York Aircraft Certification Office, FAA, Engine and Propeller Directorate, 10 Fifth Street, Third Floor, Valley Stream, NY 11581-1200; telephone (516) 256-7512; fax (516) 568-2716.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 98-ANE-37-AD.” The postcard will be date stamped and returned to the commenter.

Availability of NPRM's

Any person may obtain a copy of this NPRM by submitting a request to the FAA, New England Region, Office of the Regional Counsel, Attention: Rules Docket No. 98-ANE-37-AD, 12 New England Executive Park, Burlington, MA 01803-5299.

Discussion

The Federal Aviation Administration (FAA) has received reports of mounting bracket cracks on certain Breeze Eastern Aerospace rescue hoists series BL-16600, excluding BL-16600-160. An investigation revealed that the cracks were found on the outside radius of these brackets, not along the length of the angle bracket, but in the radial direction, i.e., transverse to the length, compromising their structural integrity. Those cracks resulted from the bending and forming of the brackets during the manufacturing process. The manufacturing process has since been changed. No loss of the rescue hoist nor of rescues have occurred to date. Since the rescue hoist is tied to the airframe through those two support brackets only, their failure could result in the loss of the rescue hoist. This condition, if not corrected, could result in mounting bracket failure and separation of the rescue hoist from the aircraft. The FAA verified that there are no changes to the estimated total cost of the proposed AD on U.S. operators, that was published in the NPRM on December 14, 1998.

Manufacturer's Service Information

The FAA has reviewed and approved the technical contents of Breeze Eastern Customer Advisory Bulletin CAB-100-56, dated November 11, 1997, that describes procedures for inspection of the mounting brackets for cracks.

Proposed Requirements of this AD

Since an unsafe condition has been identified that is likely to exist or develop on other products of this same type design, the proposed AD would require a one-time inspection of the mounting brackets for cracks, and, if necessary, replacement with serviceable parts. The actions would be required to be done in accordance with the SB described previously.

Regulatory Analysis

This proposed rule does not have federalism implications, as defined in Executive Order 13132, because it would not have a substantial direct effect on the States, on the relationship between the national government and the States, or on the distribution of power and responsibilities among the various levels of government. Accordingly, the FAA has not consulted with state authorities prior to publication of this proposed rule.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Breeze Eastern Aerospace: Docket No. 98-ANE-37-AD.

Applicability

This airworthiness directive (AD) is applicable to Breeze Eastern Aerospace rescue hoists series BL-16600, excluding BL-16600-160. These hoists are installed on, but not limited to Augusta A109, Bell 206, Bell 222, Bell 407, Eurocopter France AS332, McDonnell Douglas MD-500, and Sikorsky S-61 helicopters.

Note 1: This AD applies to each hoist identified in the preceding applicability provision, regardless of whether it has been modified, altered, or repaired in the area subject to the requirements of this AD. For hoists that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required as indicated, unless already done.

To prevent mounting bracket cracks, which could result in mounting bracket failure and separation of the rescue hoist from the aircraft, do the following:

(a) Before the next usage of the rescue hoist after the effective date of this AD, perform a one-time inspection for mounting bracket cracks, and, if necessary, replace with serviceable parts, in accordance with Breeze Eastern Aerospace Advisory Bulletin CAB-100-56, dated November 11, 1997.

Alternative Methods of Compliance

(b) An alternative method of compliance or adjustment of the compliance time that provides an acceptable level of safety may be used if approved by the Manager, New York Aircraft Certification Office. Operators must submit their request through an appropriate FAA Principal Maintenance Inspector, who may add comments and then send it to the Manager, New York Aircraft Certification Office.

Note 2: Information concerning the existence of approved alternative methods of compliance with this airworthiness directive, if any, may be obtained from the New York Aircraft Certification Office.

(c) Special flight permits may be issued in accordance with §§ 21.197 and 21.199 of the Federal Aviation Regulations (14 CFR 21.197 and 21.199) to operate the helicopter to a location where the requirements of this AD can be done.

Issued in Burlington, Massachusetts, on June 20, 2002.
Francis A Favara,
Acting Manager, Engine and Propeller Directorate, Aircraft Certification Service.

[FR Doc. 02-16304 Filed 6-27-02; 8:45 am]

BILLING CODE 4910-13-P